NUCLEAR REGULATORY COMMISSION

10 CFR Part 35

Advisory Committee on the Medical Uses of Isotopes: Meeting

AGENCY: U.S. Nuclear Regulatory Commission (NRC).

ACTION: Notice of meeting.

SUMMARY: NRC will convene a meeting of the Advisory Committee on the Medical Uses of Isotopes (ACMUI) on April 11-12, 2011. This will be a public meeting, and the final agenda is under development. A sample of agenda items to be discussed during this session includes: (1) Written directives and medical event reporting for permanent implant brachytherapy; (2) amending preceptor attestation requirements, (3) extending grandfathering to certain certified individuals regarding training and experience requirements (Petition for Rulemaking (PRM 35-20, Ritenour Petition); (4) dose limits to members of the public (per year versus per treatment) from patients who have been administered radioiodine; (5) a subcommittee report on medical-related events; and (6) a variety of other topics related to 10 Code of Federal Regulations (CFR) Part 35 rulemaking. Once finalized, a copy of the agenda will be available at http://www.nrc.gov/reading-rm/doc-collections/acmui/agenda or by e-mailing Ms. Sophie Holiday at the contact information below. The primary purpose of the meeting is for the NRC to seek comments and insights from the members of the ACMUI. However, NRC will also welcome public participation and comments on the rulemaking topics listed above. The meeting's purpose is to discuss current rulemaking activities related to 10 CFR Part 35, Medical Use of Byproduct Material.

DATES: Date and Time for Closed Session: April 11, 2011, from 8 a.m. to 9 a.m. This session will be closed so that ACMUI members can enroll for and activate new badges and complete self evaluations.

Date and Time for Open Sessions: April 11, 2011, from 9 a.m. to 5 p.m. and April 12, 2011, from 8 a.m. to 4:30 p.m.

ADDRESSES: Public Meeting: U.S. Nuclear Regulatory Commission, Two White Flint North Building, Room T2-B3, 11545 Rockville Pike, Rockville, Maryland 20852.

FOR FURTHER INFORMATION CONTACT: Sophie J. Holiday, e-mail: sophie.holiday@nrc.gov, telephone: (301) 415-7865.

SUPPLEMENTARY INFORMATION: Public Participation: Any member of the public who wishes to participate in the meeting in person or via phone should contact Ms. Holiday using the information in the FOR FURTHER INFORMATION section above. The meeting will also be Webcast live at: http://www.nrc.gov/public-involve/public-meetings/Webcast-live.html.

Conduct of the Meeting

Leon S. Malmud, M.D., will chair the meeting. Dr. Malmud will conduct the meeting in a manner that will facilitate the orderly conduct of business. The following procedures apply to public participation in the meeting:

1. Persons who wish to provide a written statement should submit an electronic copy to Ms. Holiday at the contact information listed above. All submittals must be received by April 5, 2011, and must pertain to the topic on the agenda for the meeting.

2. Questions and comments from members of the public will be permitted during the meeting, at the discretion of the Chairman.

3. The draft transcript will be available on ACMUI's Web site (http://www.nrc.gov/reading-rm/doc-collections/acmui/tr/) on or about May 12, 2011. A meeting summary will be available on ACMUI's Web site (http://www.nrc.gov/reading-rm/doc-collections/acmui/meeting-summaries/) on or about June 26, 2011.

4. Persons who require special services, such as those for the hearing impaired, should notify Ms. Holiday of their planned attendance.

This meeting will be held in accordance with the Atomic Energy Act of 1954, as amended (primarily Section 161a); the Federal Advisory Committee Act (5 U.S.C. App); and the Commission's regulations in 10 CFR part 7.

Dated: March 23, 2011.
Andrew L. Bates,
Advisory Committee Management Officer.

[FR Doc. 2011-7322 Filed 3-28-11; 8:45 am]

BILLING CODE 7590-01-P